DEPARTMENT OF THE INTERIOR

Geological Survey

[GX23GK009970000; OMB Control Number 1028-NEW]

Agency Information Collection Activities; Landslide Hazards Risk Reduction Grants Program

AGENCY: U.S. Geological Survey, Interior.

ACTION: Notice of information collection; request for comment.

SUMMARY: In accordance with the Paperwork Reduction Act of 1995 (PRA), the U.S. Geological Survey (USGS) is proposing a new information collection.

DATES: Interested persons are invited to submit comments on or before November 13, 2023.

ADDRESSES: Send your comments on this information collection request (ICR) by mail to USGS, Information Collections Clearance Officer, 12201 Sunrise Valley Drive, MS 159, Reston, VA 20192; or by email to gs-info_collections@usgs.gov. Please reference OMB Control Number 1028-NEW Landslide Hazards Risk Reduction Grants Program in the subject line of your comments.

FOR FURTHER INFORMATION CONTACT: To request additional information about this ICR, contact Stephen Slaughter by email at sslaughter@usgs.gov, or by telephone at 720-483-3945. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA, (44 U.S.C. 3501 et seq.) and 5 CFR 1320.8(d)(1), all information collections require approval. We may not conduct or sponsor, nor are you required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: USGS Cooperative Landslide Hazard Mapping and Assessment Program priorities reflect the National Landslide Preparedness Act (Public Law 116-323), which supports the mission of the USGS Landslide Hazards Program to reduce loss of lives and property from landslides and improve public safety and community resilience for the Nation. Proposed risk-reduction activities should advance landslide science and communication that underlie the priorities of the National Landslide Preparedness Act by focusing on landslide hazard planning, coordination, education, outreach, mapping, and assessments. The objectives are to provide grants on a competitive basis to state, territorial, local, and Tribal governments to research, map, assess, and collect data on landslide hazards within the jurisdictions of those governments. In response to our Program Announcements, applicants submit proposals in priority areas including (a) advance landslide hazard mapping and assessments, (b) improve landslide hazard planning and coordination, and (c) improve dissemination and effectiveness of landslide hazard information in mitigating losses. This information is used as the basis for selection and award of projects meeting USGS Cooperative Landslide Hazard Mapping and Assessment Program priorities. Final Grant Close-Out Narrative Reports are required for each funded proposal; annual progress reports are required for awards that span more than two years. Final Grant Close-Out Narrative Reports are made available to the public at https://www.usgs.gov/programs/landslide-hazards/science/external-grants-overview.

Title of Collection: Landslide Hazards Risk Reduction Grants Program.

OMB Control Number: 1028-NEW.

Form Number: None.

Type of Review: New information collection.

Respondents/Affected Public: State, Territorial, local, and Tribal governments.

Total Estimated Number of Annual Respondents: The USGS estimates that 30 respondents will read the Program Announcement, 10 respondents will submit applications, and 10 respondents will submit semi-annual progress reports and a final technical report.

Total Estimated Number of Annual Responses: 10 applications; 10 semi-annual progress reports, and 10 final technical reports.

Estimated Completion Time per Response: Read Program announcement: 1 hour; prepare applications: 40 hours; creating progress reports: 4 hours; producing the final technical report: 24 hours.

Total Estimated Number of Annual Burden Hours: 710 hours.

Respondent's Obligation: Response is voluntary but required to be eligible to receive funding.

Frequency of Collection: Program Announcements are published annually.

Total Estimated Annual Non-hour Burden Cost: There are no non-hour cost burdens associated with this Information Collection.

An agency may not conduct or sponsor, nor is a person required to respond to, a collection of information unless it displays a currently valid OMB control number.

The authority for this action is the PRA.

Stephen L. Slaughter,
Associate Program Coordinator for the USGS Landslide Hazards, Natural Hazards Mission Area.

[FR Doc. 2023-19545 Filed 9-8-23; 8:45 am]

BILLING CODE 4388-11-P